DEPARTMENT OF TRANSPORTATION

Federal Aviation Administration

14 CFR Part 39

[Docket No. FAA-2020-0914; Product Identifier 2020-NM-058-AD]

RIN 2120-AA64

Airworthiness Directives; Airbus SAS Airplanes

AGENCY: Federal Aviation Administration (FAA), DOT.

ACTION: Notice of proposed rulemaking (NPRM).

SUMMARY: The FAA proposes to supersede Airworthiness Directive (AD) 2018-16-02, which applies to all Airbus SAS Model A318-111 and -112 airplanes, Model A319-111, -112, -113, -114, and -115 airplanes, Model A320-211, -212, -214, and -216 airplanes, and Model A321-111, -112, -211, -212, and -213 airplanes. AD 2018-16-02 requires modifying and re-identifying the aft engine mount assemblies. Since the FAA issued AD 2018-16-02, a modification has been developed for 4-lug engines that the FAA has determined is necessary. This proposed AD would retain the requirement to modify and re-identify the 3-lug aft engine mount assemblies and would include a new requirement to modify and re-identify the 4-lug aft engine mount assemblies, as specified in a European Union Aviation Safety Agency (EASA) AD, which will be incorporated by reference. The FAA is proposing this AD to address the unsafe condition on these products.

DATES: The FAA must receive comments on this proposed AD by November 30, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material identified in this proposed AD that will be incorporated by reference (IBR), contact the EASA, Konrad-Adenauer-Ufer 3, 50668 Cologne, Germany; phone: +49 221 8999 000; email: ADs@easa.europa.eu; internet: www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0914.

Examining the AD Docket

You may examine the AD docket on the internet at https://www.regulations.gov by searching for and locating Docket No. FAA-2020-0914; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Sanjay Ralhan, Aerospace Engineer, Large Aircraft Section, International Validation Branch, FAA, 2200 South 216th St., Des Moines, WA 98198; phone and fax: 206-231-3223; email: sanjay.ralhan@faa.gov.

SUPPLEMENTARY INFORMATION:

Comments Invited

The FAA invites you to send any written relevant data, views, or arguments about this proposal. Send your comments to an address listed under the ADDRESSES section. Include “Docket No. FAA-2020-0914; Product Identifier 2020-NM-058-AD” at the beginning of your comments. The FAA specifically invites comments on the overall regulatory, economic, environmental, and energy aspects of this NPRM. The FAA will consider all comments received by the closing date and may amend this NPRM based on those comments.

The FAA will post all comments received, without change, to https://www.regulations.gov, including any personal information you provide. The FAA will also post a report summarizing each substantive verbal contact received about this NPRM.

Discussion

The FAA issued AD 2018-16-02, Amendment 39-19342 (83 FR 39326, August 9, 2018) (“AD 2018-16-02”), which applies to all Airbus SAS Model A318-111 and -112 airplanes, Model A319-111, -112, -113, -114, and -115 airplanes, Model A320-211, -212, -214, and -216 airplanes, and Model A321-111, -112, -211, -212, and -213 airplanes. AD 2018-16-02 requires modifying and re-identifying the aft engine mount assemblies. The FAA issued AD 2018-16-02 to address non-conforming retainers of the aft engine mount. This condition could result in loss of the locking feature of the nuts of the inner and outer pins; loss of the pins will result in the aft mount engine link no longer being secured to the aft engine mount, possibly resulting in damage to the airplane.

Actions Since AD 2018-16-02 Was Issued

Since the FAA issued AD 2018-16-02, a modification has been developed for 4-lug engines that the FAA has determined is necessary to address the unsafe condition. The proposed AD would retain the requirement to modify and re-identify the (3-lug) aft engine mount assemblies and would include a new requirement to modify and re-identify the (4-lug) aft engine mount assemblies

The EASA, which is the Technical Agent for the Member States of the European Union, has issued EASA AD 2020-0085, dated April 6, 2020 (“EASA AD 2020-0085”) (also referred to as the Mandatory Continuing Airworthiness Information, or “the MCAI”), to correct an unsafe condition for all Airbus SAS Model A318-111 and -112 airplanes, Model A319-111, -112, -113, -114, and -115 airplanes, Model A320-211, -212, -214, -215, and -216 airplanes, and Model A321-111, -112, -211, -212, and -213 airplanes. EASA AD 2020-0085 supersedes EASA AD 2017-0251, dated December 15, 2017 (“EASA AD 2017-0251”) (which corresponds to FAA AD 2018-16-02). Model A320-215 airplanes are not certificated by the FAA and are not included on the U.S. type certificate data sheet; this AD therefore does not include those airplanes in the applicability.

This proposed AD was prompted by a report of a production quality deficiency on the inner retainer installed on link assemblies of the aft engine mount, which could result in failure of the retainer. The FAA is proposing this AD to address non-conforming retainers of the aft engine mount. This condition could result in loss of the locking feature of the nuts of the inner and outer pins; loss of the pins will result in the aft mount engine link no longer being secured to the aft engine mount, possibly resulting in damage to the airplane. See the MCAI for additional background information.

Explanation of Retained Requirements

Although this proposed AD does not explicitly restate the requirements of AD 2018-16-02, this proposed AD would retain certain of the requirements of AD 2018-16-02. Those requirements are referenced in paragraphs (3), (4), (7), and (12) of EASA AD 2020-0085, which, in turn, is referenced in paragraph (g) of this proposed AD.

Paragraph (h) of AD 2018-16-02 excluded 4-lug engines from the modification (which corresponded with the previous EASA AD). This proposed AD includes 4-lug engines in the modification as specified in paragraph (3) of EASA AD 2020-0085. EASA determined the compliance time for the modification of the 4-lug engines is the same as the compliance time for the 3-lug engines. For this NPRM, the proposed compliance times for both 3-lug and 4-lug engines is within 48 months after September 13, 2018 (the effective date of AD 2018-16-02).

The 4-lug engines were originally excluded from AD 2018-16-02 because the installation of the engine mount retainer that was developed to address the unsafe condition can lead to interference on 4-lug engines. However, since AD 2018-16-02 was issued, a new mount retainer was developed for 4-lug engines. As the unsafe condition is the same for 3-lug and 4-lug engines, it was determined that the modification for the 4-lug engines should be accomplished within the compliance time given for the 3-lug engines.

EASA provided their regulated community approximately 15 months for accomplishing the modification on the 4-lug engines. The FAA expects to provide at least the same amount of time, if not longer, for affected U.S. operators to accomplish the modification on the 4-lug engines (based on the anticipated time needed to issue a final rule). The FAA has determined this compliance time is necessary to adequately address the unsafe condition for the 4-lug engines.

Related IBR Material Under 1 CFR Part 51

EASA AD 2020-0085 describes procedures for procedures for modifying and re-identifying the aft engine mount retainer assembly. This material is reasonably available because the interested parties have access to it through their normal course of business or by the means identified in the ADDRESSES section.

FAA's Determination and Requirements of This Proposed AD

This product has been approved by the aviation authority of another country, and is approved for operation in the United States. Pursuant to the FAA's bilateral agreement with the State of Design Authority, the FAA has been notified of the unsafe condition described in the MCAI referenced above. The FAA is proposing this AD because the FAA evaluated all pertinent information and determined an unsafe condition exists and is likely to exist or develop on other products of the same type design.

Proposed AD Requirements

This proposed AD would require accomplishing the actions specified in EASA AD 2020-0085 described previously, as incorporated by reference, except for any differences identified as exceptions in the regulatory text of this AD and except as discussed under “Differences Between this Proposed AD and the MCAI.”

Differences Between This Proposed AD and the MCAI

This proposed AD does not include the actions specified in paragraphs (1) and (2) of EASA AD 2020-0085. Those actions are required by paragraphs (l) and (m) of AD 2016-14-09, Amendment 39-18590 (81 FR 44989, July 12, 2016) (“AD 2016-14-09”).

This proposed AD does not include the parts installation prohibition specified in paragraph (10) of EASA AD 2020-0085. That prohibition is included in paragraph (j) of AD 2017-04-10, Amendment 39-18805 (82 FR 11791, February 27, 2017) (“AD 2017-04-10”).

This proposed AD does not supersede AD 2016-14-09 and AD 2017-04-10. However, paragraph (i) of this proposed AD provides terminating action for certain requirements of AD 2016-14-09 and a method of compliance for certain requirements of AD 2017-04-10.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0085 will be incorporated by reference in the FAA final rule. This proposed AD would, therefore, require compliance with EASA AD 2020-0085 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0085 that is required for compliance with EASA AD 2020-0085 will be available on the internet at https://www.regulations.gov by searching for and locating Docket No. FAA-2020-0914 after the FAA final rule is published.

Costs of Compliance

The FAA estimates that this proposed AD affects 119 airplanes of U.S. registry. The FAA estimates the following costs to comply with this proposed AD:

Estimated Costs for Required Actions
Action | Labor cost | Parts cost | Cost per product | Cost on U.S. operators
Retained actions from AD 2018-16-02 | 20 work-hours × $85 per hour = $1,700 | $3,152 | $4,852 | $577,388
New proposed actions | 16 work-hours × $85 per hour = $1,360 | 4,362 | 5,722 | 680,918

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-16-02, Amendment 39-19342 (83 FR 39326, August 9, 2018); and

b. Adding the following new AD:

Airbus SAS: Docket No. FAA-2020-0914; Product Identifier 2020-NM-058-AD.

(a) Comments Due Date

The FAA must receive comments by November 30, 2020.

(b) Affected ADs

(1) This AD replaces AD 2018-16-02, Amendment 39-19342 (83 FR 39326, August 9, 2018) (“AD 2018-16-02”).

(2) This AD affects AD 2016-14-09, Amendment 39-18590 (81 FR 44989, July 12, 2016) (“AD 2016-14-09”).

(3) This AD affects AD 2017-04-10, Amendment 39-18805 (82 FR 11791, February 27, 2017) (“AD 2017-04-10”).

(c) Applicability

This AD applies to all the Airbus SAS airplanes identified in paragraphs (c)(1) through (4) of this AD, certificated in any category.

(1) Model A318-111 and -112 airplanes.

(2) Model A319-111, -112, -113, -114, and -115 airplanes.

(3) Model A320-211, -212, -214, and -216 airplanes

(4) Model A321-111, -112, -211, -212, and -213 airplanes.

(d) Subject

Air Transport Association (ATA) of America Code 71, Powerplant.

(e) Reason

This AD was prompted by a report of a production quality deficiency on the inner retainer installed on link assemblies of the aft engine mount, which could result in failure of the retainer. The FAA is issuing this AD to address non-conforming retainers of the aft engine mount. This condition could result in loss of the locking feature of the nuts of the inner and outer pins; loss of the pins will result in the aft mount engine link no longer being secured to the aft engine mount, possibly resulting in damage to the airplane.

(f) Compliance

Comply with this AD within the compliance times specified, unless already done.

(g) Requirements

Except as specified in paragraph (h) of this AD: Comply with all required actions and compliance times specified in, and in accordance with, paragraphs (3) through (6), (8), (9), (11), and (12) of European Union Aviation Safety Agency (EASA) AD 2020-0085, dated April 6, 2020 (“EASA AD 2020-0085”).

(h) Exceptions to EASA AD 2020-0085

(1) Where EASA AD 2020-0085 refers to its effective date, this AD requires using the effective date of this AD.

(2) Where EASA AD 2020-0085 refers to August 16, 2017 (the effective date of EASA AD 2017-0138, dated August 2, 2017), this AD requires using September 13, 2018 (the effective date of AD 2018-16-02).

(3) Where EASA AD 2020-0085 refers to December 15, 2017 (the issued date of EASA AD 2017-0251), this AD requires using September 13, 2018 (the effective date of AD 2018-16-02).

(4) The “Remarks” section of EASA AD 2020-0085 does not apply to this AD.

(5) Where paragraph (8) of EASA AD 2020-0085 specifies “do not operate any airplane having installed a, and do not install on any airplane a `dull' finish aft engine mount inner retainer,” for this AD, do not operate any airplane having installed any inner retainers affected by the production quality deficiency, and do not install on any airplane a `dull' finish aft engine mount inner retainer.

(6) Where paragraph (9.3) of EASA AD 2020-0085 refers to January 27, 2016 (the effective date of EASA AD 2016-0010, dated January 13, 2016), this AD requires using April 3, 2017 (the effective date of AD 2017-04-10).

(7) Where paragraph (12) of EASA AD 2020-0085 specifies a compliance time of “before next flight after December 15, 2017,” for this AD, that compliance time is “within 30 days after September 13, 2018” (the effective date of AD 2018-16-12.)

(i) Terminating Action for AD 2016-14-09 and AD 2017-04-10

(1) Modification of an airplane as required by paragraph (g) of this AD (i.e., accomplishing the modification required by paragraph (3) of EASA AD 2020-0085, the replacement specified in paragraph (4) of EASA AD 2020-0085, or the modification specified in paragraph (5) of EASA AD 2020-0085), constitutes terminating action for the repetitive detailed inspections required by paragraph (l) of AD 2016-14-09 for that airplane.

(2) Modification of an airplane as required by paragraph (g) of this AD (i.e., accomplishing the modification required by paragraph (3) of EASA AD 2020-0085, the replacement specified in paragraph (4) of EASA AD 2020-0085, or the modification specified in paragraph (5) of EASA AD 2020-0085), is a method of compliance with the requirements of paragraph (g) of AD 2017-04-10 for that airplane.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (k)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2018-16-02 are approved as AMOCs for the corresponding provisions of EASA AD 2020-0085 that are required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0085 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2020-0085, contact the EASA, Konrad-Adenauer-Ufer 3, 50668 Cologne, Germany; phone: +49 221 8999 000; email: ADs@easa.europa.eu; Internet: www.easa.europa.eu. You may find this EASA AD on the EASA website at https://ad.easa.europa.eu. You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0914.

(2) For more information about this AD, contact Sanjay Ralhan, Aerospace Engineer, Large Aircraft Section, International Validation Branch, FAA, 2200 South 216th St., Des Moines, WA 98198; phone and fax: 206-231-3223; email: sanjay.ralhan@faa.gov.

Issued on October 8, 2020.
Gaetano A. Sciortino,
Deputy Director for Strategic Initiatives, Compliance & Airworthiness Division, Aircraft Certification Service.

[FR Doc. 2020-22680 Filed 10-13-20; 8:45 am]

BILLING CODE 4910-13-P